FEDERAL COMMUNICATIONS COMMISSION

Public Information Collections Approved by Office of Management and Budget

September 28, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0355.

Expiration Date: 07/31/2004.

Title: Rate of Return Reports.

Form No.: FCC Forms 492 and 492A.

Respondents: Business or other for-profit.

Estimated Annual Burden: 113 respondents; 8 hours per response (avg.).; 904 total annual burden hours.

Estimated Annual Reporting and Recordkeeping Cost Burden: $0.

Frequency of Response: On occasion, Annually, Recordkeeping.

Description: Section 65.600 of the FCC Rules requires filing of FCC Form 492 and FCC Form 492A. Filing of the FCC Form 492 on an annual basis is required from each local exchange carrier or group of affiliated carriers, which is not subject to sections 61.41 through 61.49 of the Commission's Rules and which has filed individual access tariffs during the enforcement period. Each local exchange carrier or group of affiliated carriers subject to the previously stated sections shall file the FCC Form 492A report with the Commission for the calendar year. These carriers are also required to file within 15 months after the end of each calendar year a report reflecting any corrections or modifications. The forms are necessary to enable the Commission to monitor the access tariffs and price-cap earnings, and to enforce rate-of-return prescriptions. A copy of each report must be retained in the principal office of the respondent and shall be filed in such manner as to be readily available for reference and inspection. The data are used by staff members for enforcement purposes and by the public in analyzing the industry. The reports are also used by the Commission in the tariff review process and provide both the Commission and the carriers with an early warning system if rate adjustments are necessary to correct significant targeting errors. Copies of the forms and instructions may be downloaded from the Commission's forms Web page (www.fcc.gov/formpage.html). Copies may also be obtained by either writing to the Commission's Forms Distribution Center, 9300 E. Hampton Drive, Capital Heights, Maryland 20431, or by calling telephone number 1-800-418-3676 and leaving a request on the answering machine provided for this purpose. Obligation to respond: Mandatory.

OMB Control No.: 3060-0814.

Expiration Date: 03/31/2002.

Title: Section 54.301, Local Switching Support and Local Switching Support Data Collection form and Instructions.

Form No.: N/A.

Respondents: Business or other for-profit.

Estimated Annual Burden: 195 respondents; 19.4 hours per response (avg.); 3787 total annual burden hours.

Estimated Annual Reporting and Recordkeeping Cost Burden: $0.

Frequency of Response: On occasion; Annually; Third Party Disclosure; Recordkeeping.

Description: The Telecommunications Act of 1996 (1996 Act) directed the Commission to initiate a rulemaking to reform our system of universal service so that universal service is preserved and advanced as markets move toward competition. To fulfill that mandate, on March 8, 1996, the Commission adopted a Notice of Proposed Rulemaking (NPRM) in CC Docket No. 96-45 to implement the congressional directives set out in section 254 of the Communications Act of 1934, as amended by the 1996 Act. On May 8, 1997, the Commission released the Report and Order on Universal Service (Universal Service Order) in CC Docket 96-45 that established new federal universal service support mechanisms consistent with the universal service provisions of section 254. In the Fourth Order on Reconsideration in CC Docket No. 96-45, Report and Order in CC Docket Nos. 96-45, 96-262, 94-1, 91-213, 95-72 (adopted December 30, 1997, released December 30, 1997), the Commission reconsidered certain aspects of the Universal Service Order. Among other things, the Fourth Order on Reconsideration adopted a precise methodology for the universal service administrator to use in calculating the average unseparated local switching revenue requirement. Pursuant to 47 CFR section 54.301(a) through (e)—Local Switching Support, each incumbent local exchange carrier that is not a member of the NECA Common Line tariff that has been designed an eligible telecommunications carrier, and that serves a study area with 50,000 or fewer access lines shall, for each study area, must provide the Administrator with the projected total unseparated dollar amount assigned to each account in section 54.301(b). Pursuant to 47 CFR 54.301(a) through (f)—Local switching support, each incumbent local exchange carrier that is not a member of the NECA Common Line tariff, that is an average schedule company, that has been designated an eligible telecommunications carrier, and that serves a study area with 50,000 or fewer access lines shall, for each study area, provide the Administrator with the total number of access lines, total number of central offices, and projected access minutes. This information is necessary so that the universal service administrator may comply with section 54.301(f) of the Commission's rules. Section 54.301(f) provides that, consistent with the Commission's treatment of average schedule companies, the universal service administrator should develop “a formula that simulates the disbursements that would be received pursuant to this section by a company that is representative of average schedule companies.” 47 CFR 54.301(f). Carriers are required to file true up data. See 47 CFR 54.301(e). Carriers must file this information within 12 months after the initial report. The universal service administrator, USAC, has developed a form to collect the information specified in the Commission's rules. Copies of the forms and instructions may be obtained from the Administrator by calling 202-776-0200. Copies of the form and instructions may also be downloaded from the Administrator's Web page (www.universalservice.org). This data request is necessary to calculate the average unseparated local switching revenue requirement. This revenue requirement calculation is necessary to calculate the amount of local switching support that carriers will receive. Obligation to respond: Mandatory.

OMB Control No.: 3060-0824.

Expiration Date: 09/30/2004.

Title: Service Provider Information Form.

Form No.: FCC Form 498.

Respondents: Business or other for-profit.

Estimated Annual Burden: 10,000 respondents; 1 hours per response (avg.); 10,000 total annual burden hours.

Estimated Annual Reporting and Recordkeeping Cost Burden: $0.

Frequency of Response: On occasion; Third Party Disclosure; Recordkeeping.

Description: The Telecommunications Act of 1996 (1996 Act) directed the Commission to initiate a rulemaking to reform our system of universal service so that universal service is preserved and advanced as markets move toward competition. To fulfill that mandate, on March 8, 1996, the Commission adopted a Notice of Proposed Rulemaking (NPRM) in CC Docket No. 96-45 to implement the congressional directives set out in section 254 of the Communications Act of 1934, as amended by the 1996 Act. In connection with this proceeding, the Commission appointed the Universal Service Administrative Company (USAC) as temporary administrator of certain portions of the universal service support mechanisms, including portions of schools and libraries and rural health care programs. One of the functions of USAC is to provide a mechanism for the billing and collection of funds for the schools and libraries and rural health care programs. Pursuant to sections 54.515 and 54.611 of the Commission's rules, 47 CFR 54.515 and 54.611, USAC must obtain information relating to: Service provider name and address, telephone number, Federal employer identification number, contact names and telephone numbers, and billing and collection information. To that end, USAC developed a Service Provider Information Form, FCC Form 498, to collect this information from carriers and service providers participating in the programs. FCC Form 498 is necessary to implement the congressional mandate for universal service. FCC Form 498 is necessary to make payments to telecommunications carriers and providers of eligible support services. Copies of the forms and instructions may be obtained from the Administrator by calling 202-776-0200. Copies of the form and instructions may also be downloaded from the Administrator's Web page (www.universalservice.org). Obligation to respond: Required to obtain or retain benefits.

OMB Control No.: 3060-0804.

Expiration Date: 09/30/2004.

Title: Universal Service—Health Care Providers Universal Service Program.

Form No.: FCC Forms 465, 466, 466-A, 467, and 468.

Respondents: Not-for-profit institutions; Business or other for-profit.

Estimated Annual Burden: 5255 respondents; 1.8 hours per response (avg.); 9755 total annual burden hours.

Estimated Annual Reporting and Recordkeeping Cost Burden: $0.

Frequency of Response: On occasion; Third Party Disclosure.

Description: The Telecommunications Act of 1996 (1996 Act) directed the Commission to initiate a rulemaking reform to our system of universal service so that universal service is preserved and advanced as markets move toward competition. To fulfill that mandate, on March 8, 1996, the Commission adopted a Notice of Proposed Rulemaking (NPRM) in CC Docket No. 96-45 to implement the Congressional directives set out in section 254 of the Communications Act of 1934, as amended by the 1996 Act. On May 8, 1997, the Commission adopted rules providing, among other things, that rural health care providers receive access to advanced telecommunications services at rates that are reasonably comparable to those available in urban areas. All rural health care providers planning to order eligible telecommunications services at discounted rates under the universal service program must file FCC Forms 465, 466, 466-A, 467 and 468. a. FCC Form 465, Description of Service Requested and Certification. Rural health care providers ordering discounted telecommunications services under the universal service program must submit FCC Form 465, Description of Service Requested and Certification, to the Administrator. Rural health care providers must certify their eligibility to receive discounted telecommunications services. 47 CFR 54.615(c). The Administrator will then post a description of the services sought on a website for all potential competing service providers to see and respond to as if they were requests for proposals (RFPs). (No. of respondents: 1200; hours per response: 2.5 hours; total annual burden: 3000 hours). b. FCC Form 466, Funding Request and Certification: Rural health care providers that have ordered telecommunications under the universal service discount program must file FCC Form 466, Funding Request and Certification Form, with the Administrator. The data reported will be used to ensure that health care providers have selected the most cost-effective method of providing the requested services. 47 CFR 54.603(b)(4). (No. of respondents: 1350; hours per response: 2 hours; total annual burden: 2700 hours). c. FCC Form 466-A, Internet Toll Charge Discount Request: If a rural health care provider is only seeking support for toll charges to access the Internet, it must submit FCC Form 466-A. (No. of respondents: 5; hours per response: 1 hours; total annual burden: 5 hours). d. FCC Form 467, Connection Certification. Rural health care providers participating in the universal service support mechanism must submit FCC Form 467 to inform the Administrator that they have begun to receive, or have stopped receiving, the telecommunications services for which universal service support has been allocated. The data reported will be used to ensure that universal service support is distributed to telecommunications carriers serving eligible health care providers pursuant to 47 CFR 54.611. (No. of respondents: 1350; hours per response: 1.5 hours; total annual burden: 2025 hours). e. FCC Form 468, Telecommunications Carrier Form: Rural health care providers ordering telecommunications services under the universal service support mechanism must submit FCC Form 468, Telecommunications Carrier Form, to the Administrator. The data reported will be used to ensure that the telecommunications carrier receives the appropriate amount of credit for providing telecommunications services to eligible health care providers. 47 CFR 54.605-611. (No. of respondents: 1350; hours per response: 1.5 hours; total annual burden: 2025 hours). Copies of the forms and instructions may be obtained from the administrator by calling 1-800-229-5476. Copies of the forms and instructions may also be downloaded from the Administrator's Web page (www.rl.universalservice.org). Obligation to respond: Required to obtain or retain benefits.

OMB Control No.: 3060-0787.

Expiration Date: 09/30/2004.

Title: Implementation of the Subscriber Carrier Selection Changes Provisions of the Telecommunications Act of 1996; Policies and Rules Concerning Unauthorized Changes of Consumers Long Distance.

Form No.: FCC Form 478.

Respondents: Business or other for-profit; Individuals or household; State, local or tribal government.

Estimated Annual Burden: 28,414 respondents; 4.7 hours per response (avg.); 135,126 total annual burden hours.

Estimated Annual Reporting and Recordkeeping Cost Burden: $0.

Frequency of Response: On occasion; Semi-annually; Third Party Disclosure; Recordkeeping.

Description: Section 258 of the Communications Act of 1934 (Act), as amended by the Telecommunications Act of 1996, makes it unlawful for any telecommunications carrier to “submit or execute a change in a subscriber's selection of a provider of telecommunications exchange service or telephone toll service except in accordance with such verification procedures as the Commission shall prescribe.” The section further provides that any telecommunications carrier that violates such verification procedures and that collects charges for telephone exchange service or telephone toll service from a subscriber, shall be liable to the carrier previously selected by the subscriber in an amount equal to all charges paid by the subscriber after such violation. In the Second Report and Order and Further Notice of Proposed Rulemaking (section 258 Order) issued in CC Docket No. 94-129, the Commission adopted rules to implement section 258 of the Communications Act of 1934 (Act), as amended by the Telecommunications Act of 1996 (1996 Act). The goal of section 258 is to eliminate the practice of “slamming,” which is the unauthorized change of a subscriber's preferred carrier. In the section 258 Order, the Commission adopted various rules addressing verification of preferred carrier changes and preferred carrier freezes. The Commission also adopted liability rules designed to take the profit out of slamming. In the First Order on Reconsideration (Order), released May 3, 2000, the Commission amended certain of its liability rules by requiring slamming disputes between consumers and carriers to be brought before appropriate state commissions, or this Commission in cases where the state has not opted to administer our rules, rather than to authorized carriers. The Order also modified the liability rules that apply when a consumer has paid charges to a slamming carrier. The Order set forth certain notification requirements to facilitate carriers' compliance with the liability rules. The Commission issued a Third Report and Order and Second Order on Reconsideration in CC Docket No. 94-129, released August 15, 2000 and an Order released February 22, 2001. The modifications and additions adopted these Orders will improve the carrier change process for consumers and carriers, while making it more difficult for unscrupulous carriers to perpetrate slams. Following is a synopsis of the requirements approved by OMB. See above-mentioned Orders and 47 CFR parts 1 and 64 for complete details. a. Section 64.1110, State Notification of Election to Administer FCC Rules. Pursuant to section 64.1110(a), state notification of an intention to administer the Federal Communication Commission's unauthorized carrier change rules and remedies shall be filed with the Commission Secretary in CC Docket No. 94-129 with a copy of such notification provided to the Consumer Information Bureau Chief. Such notification shall contain, at a minimum, information on where consumers should file complaints, the type of documentation, if any, that must accompany a complaint, and the procedures the state will use to adjudicate complaints. Pursuant to section 64.1110(b), state notification of an intention to discontinue administering the Federal Communication Commission's unauthorized carrier change rules and remedies shall be filed with the Commission Secretary in CC Docket No. 94-129 with a copy of such amended notification provided to the Consumer Information Bureau Chief. Such discontinuance shall become effective 60 days after the Commission's receipt of the state's letter. (No. of respondents: 51; hours per response: 2 hours; total annual burden: 102 hours). b. Section 64.1120, Verification of Orders for Telecommunications Carriers. A carrier must retain verification records for two years after their creation. Pursuant to section 64.1120 no telecommunications carrier shall submit a preferred carrier charge order unless and until the order has first been confirmed. Telecommunications carriers may obtain the subscriber's written authorization as required by section 64.1130 or an electronic authorization, or an oral authorization through a qualified independent third party. (Number of respondents: 1772; hours per response: 2 hours; total annual burden: 3544 hours). c. Section 64.1130, Letter of Agency Form and Content. Pursuant to section 64.1130, a telecommunications carrier may use a written or electronically signed letter of agency to obtain authorization and/or verification of a subscriber's request to change his or her preferred carrier selection. A letter of agency that does not conform to this section is invalid for purposes of this part. The letter of agency shall be a separate document (or easily separable document) or located on a separate screen or Web page containing only the authorizing language described in 64.1130(e) having the sole purpose of authorizing a telecommunications carrier to initiate a preferred carrier change. The letter of agency must be signed and dated by the subscriber to the telephone lines requesting the preferred carrier change. The letter of agency shall not be combined on the same document, screen, or Web page with inducements of any kind. The letter of agency must contain language that confirms that the subscriber may consult with the carrier as to whether a fee will apply to the change in the subscriber's preferred carrier. A letter of agency submitted with an electronically signed authorization must include the consumer disclosures required by section 101(c) of Electronic Signatures in Global and National Commerce Act. A carrier shall submit a preferred carrier change order on behalf of a subscriber within no more than 60 days of obtaining a written or electronically signed letter of agency. (No. of respondents: 1800; hours per response: 3 hours; total annual burden: 5500 hours). d. Section 64.1140, Carrier Liability for Slamming. Pursuant to section 64.1140(a), any submitting telecommunications carrier that fails to comply with the procedures prescribed in this part shall be liable to the subscriber's properly authorized carrier in an amount equal to 150% of all charges paid to the submitting telecommunications carrier by such subscriber after such violation, as well as for additional amounts as prescribed in § 64.1170 of part 64. Pursuant to section 64.1140(b), any subscriber whose selection of telecommunications service provider is changed without authorization or verification in accordance with the procedures set for 47 CFR 64.1140 will be liable for charges. (No. of respondents: 1910; hours per response: 2 hours; total annual burden: 3820 hours). e. Section 64.1150, Procedures For Resolution of Unauthorized Changes in Preferred Carrier—Pursuant to section 64.1150(a), executing carriers who are informed of an unauthorized carrier change by a subscriber must immediately notify both the authorized and allegedly unauthorized carrier of the incident. This notification must include the identity of both carriers. Pursuant to section 64.1150(b), any carrier, executing, authorized, or allegedly unauthorized, that is informed by a subscriber or an executing carrier of an unauthorized carrier change shall direct that subscriber either to the state commission or, where the state commission has not opted to administer these rules, to the Federal Communications Commission's Consumer Information Bureau, for resolution of the complaint. Pursuant to section 64.1150(c), upon receipt of an unauthorized carrier change complaint, the relevant governmental agency will notify the allegedly unauthorized carrier of the complaint and order that the carrier removes all unpaid charges from the subscriber's bill pending a determination of whether an unauthorized change, as defined by § 64.1100(e), has occurred, if it has not already done so. Pursuant to section 64.1150(d), not more than 30 days after notification of the complaint, or such lesser time as is required by the state commission if a matter is brought before a state commission, the alleged unauthorized carrier shall provide to the relevant government agency a copy of any valid proof of verification of the carrier change. Failure by the carrier to respond or provide proof of verification will be presumed to be clear and convincing evidence of a violation. Pursuant to section 64.1150(e), the Federal Communications Commission will not adjudicate a complaint filed pursuant to § 1.719 or §§ 1.720-736, involving an alleged unauthorized change, as defined by § 64.1100(e) of this part, while a complaint based on the same set of facts is pending with a state commission. (No. of respondents: 1960; hours per response: 5 hours; total annual hours: 9800 hours). f. Section 64.1160, Absolution Procedures Where the Subscriber Has Not Paid—Pursuant to section 64.1160(a), this section shall only apply after a subscriber has determined that an unauthorized change, as defined by § 64.1100(e) of this part, has occurred and the subscriber has not paid charges to the allegedly unauthorized carrier for service provided for 30 days, or a portion thereof, after the unauthorized change occurred. Pursuant to section 64.1160(b), an allegedly unauthorized carrier shall remove all charges incurred for service provided during the first 30 days after the alleged unauthorized change occurred, as defined by § 64.1100(e) of this part, from a subscriber's bill upon notification that such unauthorized change is alleged to have occurred. Pursuant to section 64.1160(c), an allegedly unauthorized carrier may challenge a subscriber's allegation that an unauthorized change, as defined by § 64.1100(e) of this part, occurred. An allegedly unauthorized carrier choosing to challenge such allegation shall immediately notify the complaining subscriber that: (1) The complaining subscriber must file a complaint with a state commission that has opted to administer the FCC's rules, pursuant to § 64.1110 of this part, or the FCC within 30 days of either (i) the date of removal of charges from the complaining subscriber's bill in accordance with paragraph (b) of this section or (ii) the date the allegedly unauthorized carrier notifies the complaining subscriber of the requirements of this paragraph, whichever is later; and (2) a failure to file such a complaint within this 30-day time period will result in the charges removed being reinstated on the subscriber's bill and, consequently, the complaining subscribers will only be entitled to remedies for the alleged unauthorized change other than those provided for in § 64.1140(b)(1) of this part. No allegedly unauthorized carrier shall reinstate charges to a subscriber's bill pursuant to the provisions of this paragraph without first providing such subscriber with a reasonable opportunity to demonstrate that the requisite complaint was timely filed within the 30-day period described in this paragraph. Pursuant to section 64.1160(d), if the relevant governmental agency determines after reasonable investigation that an unauthorized change, as defined by § 64.1100(e) of this part, has occurred, an order shall be issued providing that the subscriber is entitled to absolution from the charges incurred during the first 30 days after the unauthorized carrier change occurred, and neither the authorized or unauthorized carrier may pursue any collection against the subscriber for those charges. Pursuant to section 64.1160(e), if the subscriber has incurred charges for more than 30 days after the unauthorized carrier change, the unauthorized carrier must forward the billing information for such services to the authorized carrier. Pursuant to section 64.1160(f), if the unauthorized carrier received payment from the subscriber for services provided after the first 30 days after the unauthorized change occurred, the obligations for payments and refunds provided for in § 64.1160 of this part shall apply to those payments. Pursuant to section 64.1160(g), if the relevant governmental agency determines after reasonable investigation that the carrier change was authorized, the carrier may re-bill the subscriber for charges incurred. (No. of respondents: 1960; hours per response: 8 hours; total annual burden: 15,680). g. Section 64.1170, Reimbursement Procedures Where the Subscriber Has Paid. Pursuant to section 64.1170(a), the procedures set forth in section 64.1170 shall apply only after a subscriber has determined that an unauthorized change, as defined by section 64.1100(e) of our rules, has occurred and the subscriber has paid charges to an allegedly unauthorized carrier. Pursuant to section 64.1170(b), if the relevant governmental agency determines after reasonable investigation that an unauthorized change, as defined by § 64.1100(e) of this part, has occurred, it shall issue an order directing the unauthorized carrier to forward to the authorized carrier the following, in addition to any appropriate state remedies, an amount equal to 150% of all charges paid by the subscriber to the unauthorized carrier; and copies of any telephone bills issued from the unauthorized carrier to the subscriber. Pursuant to section 64.1170(c), within ten days of receipt of the amount provided for in paragraph (b)(1) of this section, the authorized carrier shall provide a refund or credit to the subscriber in the amount of 50% of all charges paid by the subscriber to the unauthorized carrier. The subscriber has the option of asking the authorized carrier to re-rate the unauthorized carrier's charges based on the rates of the authorized carrier and, on behalf of the subscriber, seek an additional refund from the unauthorized carrier, to the extent that the re-rated amount exceeds the 50% of all charges paid by the subscriber to the unauthorized carrier. The authorized carrier shall also send notice to the relevant governmental agency that it has given a refund or credit to the subscriber. Pursuant to section 64.1170(d), if an authorized carrier incurs billing and collection expenses in collecting charges from the unauthorized carrier, the unauthorized carrier shall reimburse the authorized carrier for reasonable expenses. Pursuant to section 64.1170(e), if the authorized carrier has not received payment from the unauthorized carrier as required by paragraph (c) of this section, the authorized carrier is not required to provide any refund or credit to the subscriber. The authorized carrier must, within 45 days of receiving an order as described in paragraph (b) of this section, inform the subscriber and the relevant governmental agency that issued the order if the unauthorized carrier has failed to forward to it the appropriate charges, and also inform the subscriber of his or her right to pursue a claim against the unauthorized carrier for a refund of all charges paid to the unauthorized carrier. Pursuant to section 64.1170(f), where possible, the properly authorized carrier must reinstate the subscriber in any premium program in which that subscriber was enrolled prior to the unauthorized change, if the subscriber's participation in that program was terminated because of the unauthorized change. If the subscriber has paid charges to the unauthorized carrier, the properly authorized carrier shall also provide or restore to the subscriber any premiums to which the subscriber would have been entitled had the unauthorized change not occurred. The authorized carrier must comply with the requirements of this section regardless of whether it is able to recover from the unauthorized carrier any charges that were paid by the subscriber. (No. of respondents: 1960; hours per response: 7 hours; total annual burden: 13,720 hours). h. Section 64.1180, Reporting Requirement. Pursuant to section 64.1180, each provider of telephone exchange and/or telephone toll service shall submit to the Commission FCC Form 478, Slamming Complaint Reporting Form, via e-mail (slamming 478@fcc.gov), U.S. Mail, or facsimile a slamming complaint report form identifying the number of slamming complaints received during the reporting period and other information as specified in 64.1180(b). Reporting shall commence August 15, 2001. Carriers are required to complete and file a copy of the FCC Form 478. Copies of the form may be downloaded from the Commission's forms Web page (www.fcc.gov/formpage.html). Carriers are encouraged to maintain all records regarding slamming complaints for at least 24 months from the date on which they receive written, electronic, or oral contact by a consumer alleging that an unauthorized change in his/her preferred carrier was made by the carrier or by another carrier. (No. of respondents: 1850; hours per response: 7 hours per submission; 14 hours; total annual burden: 25,900 hours). i. Section 64.1190, Preferred Carrier Freezes. Section 64.1190 requires that all local exchange carriers that impose preferred carrier freezes on their subscribers' accounts must verify such freezes, as well as accept subscriber requests to lift such freezes in writing or by three-way calls. (No. of respondents: 1800; hours per response: 2 hours; total annual burden: 3600 hours). j. Section 1.719, Informal Complaints Filed Pursuant to section 258—section 1.719 applies to complaints alleging that a carrier has violated section 258 of the Communications Act of 1934, as amended by the Telecommunications Act of 1996, by making an unauthorized change of a subscriber's preferred carrier, as defined by § 64.1100(e). Pursuant to section 1.719(b), the complaint shall be in writing, and should contain: (1) The complainant's name, address, telephone number and ­e-mail address (if the complainant has one); (2) the name of both the allegedly unauthorized carrier, as defined by § 64.1100(d), and authorized carrier, as defined by § 64.1100(c); (3) a complete statement of the facts (including any documentation) tending to show that such carrier engaged in an unauthorized change of the subscriber's preferred carrier; (4) a statement of whether the complainant has paid any disputed charges to the allegedly unauthorized carrier; and (5) the specific relief sought. If the complainant is unsatisfied with the resolution of a complaint under this section, the complainant may file a formal complaint with the Commission in the form specified in § 1.721 of this part. (No. of respondents: 13,200; hours per response: 4 hours; total annual burden: 52,800 hours). k. Voluntary Reporting Requirement. States that choose to administer the Commission's slamming rules must regularly file information with the Commission that details slamming activity in their regions. Such filings should identify the number of slamming complaints handled, including data on the number of valid complaints per carrier; the identity of top slamming carriers; slamming trends; and other relevant information. See paragraph 34 of the Order. (Number of respondents: 51; hours per response: 10 hours; total annual burden: 510 hours). The information from these collections will be used to implement section 258 of the Act. The information will strengthen the ability of our rules to deter slamming, while addressing concerns raised with respect to our previous administrative procedures. The information will also enable us to give victims of slamming adequate redress and ensure that carriers that slam do not profit from their fraud. The information will help to protect consumers from carriers who may attempt to take advantage of consumer confusion over different types of telecommunications services. The information gathered in response to the reporting requirement will enable the Commission to identify, as soon as possible, the carriers that repeatedly initiate unauthorized changes. Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-24861 Filed 10-3-01; 8:45 am]

BILLING CODE 6712-01-P